DEPARTMENT OF HOMELAND SECURITY

Coast Guard

[Docket No. USCG-2025-0350]

Notice of Availability of Record of Decision for the Hawaii-California Training and Testing Final Supplemental Environmental Impact Statement/Overseas Environmental Impact Statement

AGENCY: Coast Guard, DHS.

ACTION: Notice of availability.

SUMMARY: The Coast Guard announces its decision to conduct training and testing activities within the Hawaii-California Training and Testing (HCTT) Study Area as described in Alternative 1 of the HCTT Final Environmental Impact Statement (EIS)/Overseas EIS (OEIS).

DATES: The Coast Guard's Record of Decision is dated November 28, 2025.

ADDRESSES: The complete text of the Record of Decision (ROD) is available on the project website at www.nepa.navy.mil/hctteis/. Single copies of the ROD are available upon request by contacting: 2703 Martin Luther King Jr. Ave SE, Mail Stop 7Y17-00, Washington, DC 20593-7714. The ROD is also available in the docket, which can be found by searching for docket number USCG-2025-0350 at https://www.regulations.gov. Supplementary and supporting documentation, including the Final Supplementary Environmental Impact Statement, can be found at: www.nepa.navy.mil/hctteis/.

FOR FURTHER INFORMATION CONTACT: If you have questions about the ROD, contact Andrew Haley, U.S. Coast Guard; email HQS-SMB-CG-47-POLICYREVIEW@uscg.mil.

SUPPLEMENTARY INFORMATION: Pursuant to Section 102(2)(c) of the National Environmental Policy Act (NEPA) of 1969, Sections 4321 et seq. of Title 42 United States Code, the Coast Guard announces its decision to implement the Coast Guard's preferred Alternative, Alternative 1. Alternative 1 is representative of an annual level of training and testing activities that accounts for the natural fluctuations of training cycles, deployment schedules, and use of synthetic training opportunities.

Amy B. Grable,
Rear Admiral, U.S. Coast Guard, Assistant Commandant for Capability.

[FR Doc. 2025-22556 Filed 12-10-25; 8:45 am]

BILLING CODE 9110-04-P